DEPARTMENT OF THE INTERIOR

Minerals Management Service

Environmental Documents Prepared for Proposed Oil, Gas, and Mineral Operations by the Gulf of Mexico Outer Continental Shelf (OCS) Region

AGENCY: Minerals Management Service, Interior.

ACTION: Notice of the Availability of Environmental Documents. Prepared for OCS Mineral Proposals by the Gulf of Mexico OCS Region.

SUMMARY: Minerals Management Service (MMS), in accordance with Federal Regulations that implement the National Environmental Policy Act (NEPA), announces the availability of NEPA-related Site-Specific Environmental Assessments (SEA) and Findings of No Significant Impact (FONSI), prepared by MMS for the following oil-, gas-, and mineral-related activities proposed on the Gulf of Mexico and Atlantic OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares SEAs and FONSIs for proposals that relate to exploration, development, production, and transport of oil, gas, and mineral resources on the Federal OCS. These SEAs examine the potential environmental effects of activities described in the proposals and present MMS conclusions regarding the significance of those effects. Environmental Assessments are used as a basis for determining whether or not approval of the proposals constitutes major Federal actions that significantly affect the quality of the human environment in the sense of NEPA Section 102(2)(C). A FONSI is prepared in those instances where MMS finds that approval will not result in significant effects on the quality of the human environment. The FONSI briefly presents the basis for that finding and includes a summary or copy of the SEA.

This notice constitutes the public notice of availability of environmental documents required under the NEPA Regulations.

This listing includes all proposals for which the Gulf of Mexico OCS Region prepared a FONSI in the period subsequent to publication of the preceding notice.

Activity/operator | Location | Date
Murphy Exploration & Production Company—USA, Initial Exploration Plan, SEA N-9105 | Lloyd Ridge, Block 268, Lease OCS-G 10492, located 124 miles from the nearest Louisiana shoreline | 2/8/2008
Murphy Exploration & Production Company—USA, Initial Exploration Plan SEA N-9141 | Lloyd Ridge, Block 410, Lease OCS-G 31846, located 152 miles from the nearest Louisiana shoreline | 4/3/2008
Murphy Exploration & Production Company—USA, Initial Exploration Plan, SEA N-9143 | Lloyd Ridge, Blocks 326 & 370, Leases OCS-G 31837 & 31842, respectively, located 171 miles from the nearest Louisiana shoreline | 4/3/2008
Energy Resource Technology GOM, Inc., Structure Removal, SEA ES/SR 08-034 | South Timbalier, Block 63, Lease OCS-G 00599, located 19 miles from the nearest Louisiana shoreline | 4/6/2008
Apache Corporation, Structure Removal, SEA ES/SR 08-048 | West Cameron, Block 68, Lease OCS 00526, located 7 miles from the nearest Louisiana shoreline | 4/6/2008
Seismic Exchange, Inc., Geological & Geophysical Prospecting for Mineral Resources, SEA T08-04 | Located in the western Gulf of Mexico 45 miles southwest of Texas City, Texas | 4/8/2008
Murphy Exploration & Production Company USA, Initial Exploration Plan, SEA N-9155 | Lloyd Ridge, Block 180, Lease OCS-G 31822, located 120 miles from the nearest Louisiana shoreline | 4/8/2008
EMGS Americas, Geological & Geophysical Prospecting for Mineral Resources, SEA T08-06 | Located in the western Gulf of Mexico south of Galveston, Texas | 4/9/2008
Murphy Exploration & Production Company USA, Initial Exploration Plan, SEA N-9151 | Lloyd Ridge, Block 499, Lease OCS-G 31851, located 158 miles from the nearest Louisiana shoreline | 4/9/2008
Murphy Exploration & Production Company—USA, Initial Exploration Plan, SEA N-9142 | Lloyd Ridge, Blocks 412 & 456, Leases OCS-G 31848 & 31850 respectively, located 155 miles from the nearest Louisiana shoreline | 4/9/2008
McMoRan Oil & Gas, LLC, Structure Removal, SEA ES/SR 08-044 | West Cameron, Block 522, Lease OCS-G 14340, located 100 miles from the nearest Louisiana shoreline | 4/9/2008
Anadarko Petroleum Corporation, Initial Exploration Plan, SEA N-9145 | Lloyd Ridge, Block 400, Lease OCS-G 23481, located 128 miles from the nearest Louisiana shoreline | 4/16/2008
Apache Corporation, Structure Removal, SEA ES/SR 08-052 | South Timbalier, Block 198, Lease OCS-G 07769, located 54 miles from the nearest Louisiana shoreline | 4/17/2008
Apache Corporation, Structure Removal, SEA ES/SR 08-049 | West Delta, Block 41, Lease OCS-G 01073, located 15 miles from the nearest Louisiana shoreline | 4/17/2008
Murphy Exploration & Production Company USA, Initial Exploration Plan, SEA N-9160 | Lloyd Ridge, Block 317, Lease OCS-G 31834, located 137 miles from the nearest Louisiana shoreline | 4/18/2008
Murphy Exploration & Production Company USA, Initial Exploration Plan, SEA N-9159 | Lloyd Ridge, Block 319, Lease OCS-G 31836, located 141 miles from the nearest Louisiana shoreline | 4/18/2008
GX Technology Corporation, Geological & Geophysical Prospecting for Mineral Resources, SEA L07-84 | Located in the central Gulf of Mexico south of Mobile, Alabama | 4/18/2008
PGS Geophysical for Multi Klient Invest AS, Geological & Geophysical Prospecting for Mineral Resources SEA L08-16 | Located in the western/central Gulf of Mexico from south of Galveston, Texas to an area south of Venice, Louisiana | 4/18/2008
Chevron U.S.A., Inc., Structure Removal, SEA ES/SR 08-054 | Mobile, Block 918, Lease OCS-G 12114, located 8 miles from the nearest Alabama shoreline | 4/24/2008
Apache Corporation, Structure Removal, SEA ES/SR 07-151, 07-152 | South Pass, Block 62, Lease OCS-G 01294, located 17 miles from the nearest Louisiana shoreline | 4/24/2008
McMoran Oil & Gas, LLC, Structure Removal, SEA ES/SR 08-042, 08-043 | Vermilion, Block 160, Lease OCS-G 08668, located 41 miles from the nearest Louisiana shoreline | 4/24/2008
Devon Energy Production Company, L.P., Structure Removal, SEA ES/SR 08-010A | Eugene Island, Block 120, Lease OCS-G 00050, located 30 miles from the nearest Louisiana shoreline | 4/25/2008
Apache Corporation, Structure Removal, SEA ES/SR 07-118A | Main Pass, Block 290, Lease OCS-G 01667, located 34 miles from the nearest Louisiana shoreline | 4/25/2008
Energy Resource Technology GOM, Inc., Structure Removal, SEA ES/SR 06-016B | Matagorda Island, Block 604, Lease OCS-G 06037, located 8 miles from the nearest Texas shoreline | 4/25/2008
Chevron U.S.A., Inc., Structure Removal, SEA ES/SR 08-056 | West Cameron, Block 44, Lease OCS-G 21532, located 6 miles from the nearest Louisiana shoreline | 4/25/2008
BHP Billiton Petroleum (Americas), Inc., Geological & Geophysical Prospecting for Mineral Resources, SEA L08-24 | Located in the central Gulf of Mexico south of Grand Isle, Louisiana | 5/1/2008
Chevron U.S.A., Inc., Structure Removal, SEA ES/SR 08-058 | Ship Shoal, Block 169, Lease OCS-G 00820, located 28 miles from the nearest Louisiana shoreline | 5/5/2008
Hunt Petroleum (AEC), Inc., Structure Removal, SEA ES/SR 08-063, 08-064 | Vermilion, Block 54, Lease OCS-G 19754, located 12 miles from the nearest Louisiana shoreline | 5/5/2008
Pioneer Natural Resources USA, Inc., Structure Removal, SEA ES/SR 08-072 | East Cameron, Block 322, Lease OCS-G 02254, located 110 miles from the nearest Louisiana shoreline | 5/6/2008
Phoenix Exploration Company, LLC, Structure Removal, SEA ES/SR 08-062 | High Island, Block 53, Lease OCS 00740, located 15 miles from the nearest Texas shoreline | 5/6/2008
WesternGeco, LLC, Geological & Geophysical Prospecting for Mineral Resources SEA L08-25 | Located in the western/central Gulf of Mexico south of Lafayette, Louisiana | 5/6/2008
Chevron U.S.A., Inc., Structure Removal, SEA ES/SR 08-057 | South Marsh Island (North Addition), Block 288, Lease OCS-G 02316, located 29 miles from the nearest Louisiana shoreline | 5/6/2008
Chevron U.S.A., Inc., Structure Removal, SEA ES/SR 08-055 | Mobile, Block 904, Lease OCS-G 05749, located 7 miles from the nearest Mississippi shoreline | 5/8/2008
Bois d'Arc Offshore Ltd., Structure Removal, SEA ES/SR 08-071 | Ship Shoal, Block 112, Lease OCS-G 00066, located 20 miles from the nearest Louisiana shoreline | 5/9/2008
Chevron U.S.A., Inc., Structure Removal, SEA ES/SR 97-171A | South Timbalier, Block 24, Lease OCS-G 00387, located 6 miles from the nearest Louisiana shoreline | 5/9/2008
Chevron U.S.A., Inc., Structure Removal, SEA ES/SR 00-115A | South Timbalier, Block 52, Lease OCS-G 01241, located 14 miles from the nearest Louisiana shoreline | 5/9/2008
Chevron U.S.A., Inc., Structure Removal, SEA ES/SR 08-074, 08-075 | Breton Sound, Block 56, Lease OCS-G 01373, located 14 miles from the nearest Louisiana shoreline | 5/14/2008
Stone Energy, Structure Removal, SEA ES/SR 08-079 | Eugene Island, Block 49, Lease OCS-G 17959, located 25 miles from the nearest Louisiana shoreline | 5/14/2008
Energy Resource Technology GOM, Inc., Structure Removal, SEA ES/SR 08-027, 08-085 | South Pelto, Blocks 20 & 19, Leases OCS 00074 & 00073 respectively, located 7 miles from the nearest Louisiana shoreline | 5/14/2008
Mariner Energy, Inc., Structure Removal, SEA ES/SR 08-088 | High Island, Block A467, Lease OCS-G 02688, located 93 miles from the nearest Texas shoreline | 5/15/2008
TDC Energy, LLC, Structure Removal, SEA ES/SR 07-062A | Vermilion, Block 221, Lease OCS-G 04424, located 60 miles from the nearest Louisiana shoreline | 5/15/2008
Chevron U.S.A., Inc., Structure Removal, SEA ES/SR 97-051A | South Timbalier, Block 23, Lease OCS-G 00166, located 5 miles from the nearest Louisiana shoreline | 5/16/2008
Chevron U.S.A., Inc., Structure Removal, SEA ES/SR 05-119A | South Marsh Island, Block 218, Lease OCS-G 00310, located 9 miles from the nearest Louisiana shoreline | 5/16/2008
BP America Production Company, Structure Removal, SEA ES/SR 07-105A | South Timbalier, Block 160, Lease OCS-G 04828, located 32 miles from the nearest Louisiana shoreline | 5/16/2008
Callon Petroleum Operating Company, Structure Removal, SEA ES/SR 08-080, 08-081, 08-082 | South Marsh Island, Block 261, Lease OCS-G 16337, located 30 miles from the nearest Louisiana shoreline | 5/16/2008
Stone Energy Corporation, Structure Removal, SEA ES/SR 08-065 | Eugene Island, Block 49, Lease OCS-G 17959, located 25 miles from the nearest Louisiana shoreline | 5/20/2008
Chevron U.S.A., Inc., Structure Removal, SEA ES/SR 00-014A | Grand Isle, Block 37, Lease OCS-G 00392, located 7 miles from the nearest Louisiana shoreline | 5/20/2008
Coastal Planning & Engineering, Inc., Geological & Geophysical Prospecting for Mineral Resources, SEA M08-02 | Located off the coast of Manatee & Sarasota Counties, Florida on the Federal OCS of the Gulf of Mexico | 5/20/2008
Union Oil Company, Structure Removal, SEA ES/SR 08-083, 08-084 | Mobile, Block 915, Lease OCS-G 05752, located 8 miles from the nearest Alabama shoreline | 5/20/2008
Dominion Exploration & Production, Inc., Structure Removal, SEA ES/SR 08-053 | West Cameron, Block 153, Lease OCS-G 10549, located 24 miles from the nearest Louisiana shoreline | 5/20/2008
Chevron U.S.A., Inc., Structure Removal, SEA ES/SR 08-067, 08-068, 08-069, 08-070 | Eugene Island, Block 133, Lease OCS-G 04445, located 43 miles from the nearest Louisiana shoreline | 5/21/2008
Chevron U.S.A., Inc., Structure Removal, SEA ES/SR 97-049A | Grand Isle, Block 37, Lease OCS-G 00392, located 7 miles from the nearest Louisiana shoreline | 5/21/2008
Bois d'Arc Offshore, Ltd., Structure Removal, SEA ES/SR 08-086 | Ship Shoal, Block 107, Lease OCS-G 21654, located 20 miles from the nearest Louisiana shoreline | 5/21/2008
Apache Corporation, Structure Removal, SEA ES/SR 08-002A, 08-014A | Ship Shoal, Block 207, Lease OCS-G 01523, located 34 miles from the nearest Louisiana shoreline | 5/21/2008
Exxon Mobil Corporation, Revised Exploration Plan, SEA R-4825 | Walker Ridge, Block 584, Lease OCS 20351, located 186 miles from the nearest Louisiana shoreline south of Morgan City, Louisiana | 5/21/2008
Energy Resource Technology, Inc., Supplemental Developmental Operations Coordination Document, SEA S-7156 | Green Canyon, Blocks 236 & 237, Leases OCS-G 15562 & 15563, located approximately 91 miles southward from the nearest Louisiana shoreline | 5/27/2008
Petsec Energy, Inc., Structure Removal, SEA ES/SR 08-089 | Vermilion, Block 257, Lease OCS-G 24851, located 69 miles from the nearest Louisiana shoreline | 5/29/2008
GOM Shelf, LLC, Structure Removal, SEA ES/SR 06-140A | Eugene Island, Block 142, Lease OCS-G 10726, located 27 miles from the nearest Louisiana shoreline | 5/30/2008
Apache Corporation, Structure Removal, SEA ES/SR 08-036 | Eugene Island, Block 87, Lease OCS-G 09580, located 21 miles from the nearest Louisiana shoreline | 6/2/2008
Arena Offshore, LLC, Structure Removal, SEA ES/SR 08-073 | Matagorda Island, Block 669, Lease OCS-G 04065, located 23 miles from the nearest Texas shoreline | 6/2/2008
Chevron, U.S.A., Inc., Structure Removal, SEA ES/SR 08-076 | Ship Shoal, Block 108, Lease OCS-G 00814, located 23 miles from the nearest Louisiana shoreline | 6/2/2008
McMoRan Oil & Gas LLC, Structure Removal, SEA ES/SR 08-047 | Vermilion, Block 159, Lease OCS-G 03128, located 45 miles from the nearest Louisiana shoreline | 6/3/2008
Hunt Oil Company, Structure Removal, SEA ES/SR 08-090 | Cameron (West Addition), Block 289, Lease OCS-G 22539, located 28 miles from thenearest Louisiana shoreline | 6/5/2008
Neptune LNG, LLC, Right-of-Way Application, SEA P-7 | Boston, Blocks NK 19-04 6525 & 19-04 6575, located in Massachusetts Bay off the Massachusetts shoreline | 6/10/2008
Magnum Hunter Production, Inc., Structure Removal, SEA ES/SR 08-093 | South Timbalier, Block 250, Lease OCS-G 15336, located 57 miles from the nearest Louisiana shoreline | 6/10/2008
Hunt Petroleum (AEC), Inc., Structure Removal, SEA ES/SR 08-092 | Main Pass, Block 116, Lease OCS-G 03419, located 30 miles from the nearest Louisiana shoreline | 6/16/2008
BP America, Inc., Structure Removal, SEA ES/SR 07-107A | West Delta, Block 96, Lease OCS-G 01498, located 27 miles from the nearest Louisiana shoreline | 6/16/2008
Murphy Exploration & Production Company U.S.A., Initial Exploration Plan, SEA N-9186 | Lloyd Ridge, Block 511, Lease OCS-G 10496, Wells A, B, C, D and E, located 185 miles from the nearest Louisiana shoreline, 217 miles from the nearest Mississippi shoreline, 202 miles from the nearest Alabama shoreline and 168 miles from the nearest Florida shoreline | 6/17/2008
Hunt Petroleum (AEC), Inc., Structure Removal, SEA ES/SR 08-091 | Grand Isle, Block 28, Lease OCS-G 22765, located 17 miles from the nearest Louisiana shoreline | 6/18/2008
Maritech Resources, Inc., Structure Removal, SEA ES/SR 07-143A | Eugene Island, Block 116, Lease OCS-G 00478, located 46 miles from the nearest Louisiana shoreline | 6/20/2008
Maritech Resources, Inc., Structure Removal, SEA ES/SR 07-116A, 07-117A | Eugene Island, Block 129, Lease OCS-G 00054, located 38 miles from the nearest Louisiana shoreline | 6/20/2008
Wild Well Control, Inc., Structure Removal, SEA ES/SR 08-104 | Grand Isle, Block 40, Lease OCS-G 00128, located 14 miles from the nearest Louisiana shoreline | 6/20/2008
Wild Well Control, Inc., Structure Removal, SEA ES/SR 08-105 | Grand Isle, Block 41, Lease OCS-G 00129, located 14 miles from the nearest Louisiana shoreline | 6/20/2008
Maritech Resources, Inc., Structure Removal, SEA ES/SR 07-074A, 07-138A, 07-139A | South Marsh, Block 233, Lease OCS-G 11929, located 20 miles from the nearest Louisiana shoreline | 6/20/2008
Arena Offshore, LLC, Structure Removal, SEA ES/SR 08-115 | Eugene Island, Block 83, Lease OCS-G 24888, located 15 miles from the nearest Louisiana shoreline | 6/24/2008
Apache Corporation, Structure Removal, SEA ES/SR 07-068 | Main Pass, Block 151, Lease OCS-G 02951, located 10 miles from the nearest Louisiana shoreline | 6/25/2008
Joint Industry Project, Geological & Geophysical Exploration for Mineral Resources, SEA L08-49 & L08-48 | Green Canyon, Block 955 & Walker Ridge, Block 313, located 139 & 170 miles from the nearest Louisiana shoreline, respectively | 6/26/2008
Exxon Mobil Corporation, Revised Exploration Plan, SEA R-4845 | Keathley Canyon, Block 964, Lease OCS-G 21451, lo`cated 240 miles from the nearest Louisiana shoreline south of Morgan City, Louisiana | 6/30/2008

Persons interested in reviewing environmental documents for the proposals listed above or obtaining information about SEAs and FONSIs prepared by the Gulf of Mexico OCS Region are encouraged to contact MMS at the address or telephone listed in the FOR FURTHER INFORMATION CONTACT section.

Dated: August 20, 2008.
Lars Herbst,
Regional Director, Gulf of Mexico OCS Region.

[FR Doc. E8-21061 Filed 9-10-08; 8:45 am]

BILLING CODE 4310-MR-P